DEPARTMENT OF JUSTICE

Antitrust Division

Notice Pursuant to the National Cooperative Research and Production Act of 1993—DVD Copy Control Association

Notice is hereby given that, on December 19, 2006, pursuant to Section 6(a) of the National Cooperative Research and Production Act of 1993, 15 U.S.C. 4301 et seq. (“the Act”), DVD Copy Control Association (“DVD CCA”) has filed written notifications simultaneously with the Attorney General and the Federal Trade Commission disclosing changes in its membership. The notifications were filed for the purpose of extending the Act's provisions limiting the recovery of antitrust plaintiffs to actual damages under specified circumstances. Specifically, Blaupunkt GmbH, Hildesheim, GERMANY; Chinachip Electronics Technology Co., Ltd., Shenzhen, PEOPLE'S REPUBLIC OF CHINA; Commtech Technology Macao Commercial Offshore Ltd., Macau, PEOPLE'S REPUBLIC OF CHINA; Dailystar Technology Limited, Hong Kong, HONG KONG-CHINA; Dongguan SIMON Technology Co., Ltd., Guangdon, PEOPLE'S REPUBLIC OF CHINA; Dvation Co., Ltd., Seoul, REPUBLIC OF KOREA; GM Records Marek Grela, Warsaw, POLAND; Le Hong Po Company Limited, Hong Kong, HONG KONG-CHINA; Optical Disc Solutions, Inc., Richmond, IN; Polar Frog Digital, Scottsdale, AZ; Protocall Technologies Incorporated, Commack, NY; Shenzhen Xing Feng Industry Co., Ltd., Shenzhen, PEOPLE'S REPUBLIC OF CHINA; Skypine Electronics (Shenzhen) Co., Ltd., Shenzhen City, PEOPLE'S REPUBLIC OF CHINA; VTV nv, West Vlaanderen, BELGIUM; and Yuban & Co., Taipei, TAIWAN have been added as parties to this venture. Also, Toshiba-EMI Limited, Tokyo, JAPAN; and Yuxing Electronics Company Limited, Tortola, BRITISH VIRGIN ISLANDS have withdrawn as parties to this venture.

No other changes have been made in either the membership or planned activity of the group research project. Membership in this group research project remains open, and DVD CCA intends to file additional written notifications disclosing all changes in membership.

On April 11, 2001, DVD CCA filed its original notification pursuant to Section 6(a) of the Act. The Department of Justice published a notice in the Federal Register pursuant to Section 6(b) of the Act on August 3, 2001 (66 FR 40727).

The last notification was filed with the Department on September 21, 2006. A notice was published in the Federal Register pursuant to Section 6(b) of the Act on October 27, 2006 (71 FR 63035).

Patricia A. Brink,
Deputy Director of Operations, Antitrust Division.

[FR Doc. 07-318 Filed 1-24-07; 8:45 am]

BILLING CODE 4410-11-M